DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Actions

On July 28, 2020, OFAC determined that the property and interests in property subject to U.S. jurisdiction of the following persons are blocked under the relevant sanctions authorities listed below.

Individuals

1. AL-RAWI, 'Adnan Muhammad Amin (a.k.a. AL RAWI, Adnan Mahmood; a.k.a. ALRAWI, Adnan Mahmoud; a.k.a. AL-RAWI, Amin Muhammad; a.k.a. AMIN, 'Adnan Muhammad; a.k.a. RAWI, Adnan Mahmood; a.k.a. “ALDEEN, Mohammed Amad Az”; a.k.a. “EMAD, Mohammad”; a.k.a. “EZALDEEN, Mohammed Emad”), Erbil, Iraq; Amman, Jordan; Sulaymaniyah, Iraq; Istanbul, Turkey; Adana, Turkey; Bazaz Abd, Syria; al-Rawah, Anbar, Iraq; DOB 07 Jan 1985; alt. DOB 28 Aug 1982; Gender Male; National ID No. 649474 (Iraq); Identification Number 00260818 (Iraq); alt. Identification Number 658032 (Jordan); alt. Identification Number 635464 (Jordan); alt. Identification Number 1251025 (Jordan); alt. Identification Number 1200701 (Jordan); alt. Identification Number 24906658031 (Jordan); alt. Identification Number 1465967 (Jordan); alt. Identification Number 1194396 (Jordan) (individual) [SDGT] (Linked To: ISLAMIC STATE OF IRAQ AND THE LEVANT).

Designated pursuant to section 1(a)(iii)(A) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having acted or purported to act for or on behalf of, directly or indirectly, the ISLAMIC STATE OF IRAQ AND THE LEVANT, an entity whose property and interests in property are blocked pursuant to E.O. 13224, as amended.

2. HAMUD, Faruq, al Hawl, Syria; DOB 02 Feb 1990; Gender Male (individual) [SDGT] (Linked To: ISLAMIC STATE OF IRAQ AND THE LEVANT).

Designated pursuant to section 1(a)(iii)(C) of Executive Order 13224 for having materially assisted, sponsored, or provided financial, material, or technological support for, or goods or services to or in support of, the ISLAMIC STATE OF IRAQ AND THE LEVANT, an entity whose property and interests in property are blocked pursuant to E.O. 13224, as amended.

Dated: July 28, 2020.
Andrea M. Gacki,
Director, Office of Foreign Assets Control, U.S. Department of the Treasury.

[FR Doc. 2020-20028 Filed 9-9-20; 8:45 am]

BILLING CODE 4810-AL-P